SMALL BUSINESS ADMINISTRATION

Reporting and Recordkeeping Requirements Under OMB Review

AGENCY: Small Business Administration.

ACTION: 30-Day notice.

SUMMARY: The Small Business Administration (SBA) is publishing this notice to comply with requirements of the Paperwork Reduction Act (PRA) requires agencies to submit proposed reporting and recordkeeping requirements to OMB for review and approval, and to publish a notice in the Federal Register notifying the public that the agency has made such a submission. This notice also allows an additional 30 days for public comments.

DATES: Submit comments on or before October 30, 2019.

ADDRESSES: Comments should refer to the information collection by name and/or OMB Control Number and should be sent to: Agency Clearance Officer, Curtis Rich, Small Business Administration, 409 3rd Street SW, 5th Floor, Washington, DC 20416; and SBA Desk Officer, Office of Information and Regulatory Affairs, Office of Management and Budget, New Executive Office Building, Washington, DC 20503.

FOR FURTHER INFORMATION CONTACT: Curtis Rich, Agency Clearance Officer, (202) 205-7030, curtis.rich@sba.gov.

Copies: A copy of the Form OMB 83-1, supporting statement, and other documents submitted to OMB for review may be obtained from the Agency Clearance Officer.

SUPPLEMENTARY INFORMATION: Federal and State Technology Partnership (FAST) Program is a competitive grants program designed to strengthen the technological competitiveness of small businesses seeking funding from the Small Business Innovation Research (SBIR) and Small established the FAST program under the Consolidated Appropriations Act of 2001, codified at 15 U.S.C. 657d(c). The program expired on September 30, 2005 and was reestablished under the Consolidated Appropriations Act of 2010. FAST provides funding to organizations to execute state/regional programs that increase the number of SBIR/STTR proposals (through outreach and financial support); increase the number of SBIR/STTR awards (through technical assistance and mentoring); and better prepare SBIR/STTR awardees for commercialization success (through technical assistance and mentoring). The FAST-Quarterly Reporting Form will collect data from FAST award recipients which will be used to improve program performance. The Quarterly Reports will collect ongoing performance and outcome data from FAST awardees on a required, quarterly basis. As well as improving program management, the data collected will inform the Annual Reports to the Senate Committee on Small Business & Entrepreneurship; the Senate Committee on Commerce, Science, and Transportation; the House Committee on Science, Space, and Technology; and the House Committee on Small Business, as required in the Small Business Act 34 © (1)(2).

Solicitation of Public Comments

SBA is requesting comments on (a) Whether the collection of information is necessary for the agency to properly perform its functions; (b) whether the burden estimates are accurate; (c) whether there are ways to minimize the burden, including through the use of automated techniques or other forms of information technology; and (d) whether there are ways to enhance the quality, utility, and clarity of the information.

Title: FAST Program Quarterly Reporting Form Description of Respondents: FAST award recipients, including Small Business and Technology Development Centers (SBTDC's), state and local economic development agencies, and other Fast award recipients.

Form Number: N/A.

Estimated Annual Responses: 96.

Estimated Annual Hour Burden: 192.

Curtis Rich,
Management Analyst.

[FR Doc. 2019-21128 Filed 9-27-19; 8:45 am]

BILLING CODE 8026-03-P